DEPARTMENT OF COMMERCE

National Institute of Standards and Technology

NIST Safety Commission

AGENCY: National Institute of Standards and Technology, Department of Commerce.

ACTION: Notice of open meeting.

SUMMARY: The National Institute of Standards and Technology (NIST) Safety Commission (Commission) will meet on May 22, 2023, from 8:30 a.m. to 5:00 p.m. Eastern Time. The purpose of this meeting is for the Commission to continue its assessment of the state of NIST's safety culture and how effectively the existing safety protocols and policies have been implemented across NIST. The agenda may change to accommodate Commission business. The final agenda will be posted on the NIST website at https://www.nist.gov/director/nist-safety-commission/may-22-nist-safety-commission-meeting-agenda.

DATES: The Commission will meet on May 22, 2023, from 8:30 a.m. to 5:00 p.m. Eastern Time.

ADDRESSES: The meeting will be held at the National Institute of Standards and Technology, 100 Bureau Drive, Gaithersburg, Maryland, 20899 for the NIST Safety Commission members and NIST Senior Leadership with an option to participate via webinar for NIST staff and public participants. Please note admittance instructions under the SUPPLEMENTARY INFORMATION section of this notice.

FOR FURTHER INFORMATION CONTACT: Corrine Lloyd, Special Programs Office, National Institute of Standards and Technology, at 301-975-8762 or corrine.lloyd@nist.gov.

SUPPLEMENTARY INFORMATION: Pursuant to the Federal Advisory Committee Act, as amended, 5 U.S.C. App., notice is hereby given that the NIST Safety Commission will meet on May 22, 2023, from 8:30 a.m. to 5:00 p.m. Eastern Time. The meeting will be open to the public. Members of the Commission are appointed by the Director of NIST. The Commission is composed of not more than seven members who are qualified to provide advice to the NIST Director on matters relating to safety policies; safety management system, practices, and performance; and safety culture. The primary purpose of this meeting is for the Commission to continue its assessment of the state of NIST's safety culture and how effectively the existing safety protocols and policies have been implemented across NIST. The agenda may change to accommodate Commission business. The final agenda will be posted on the NIST website at https://www.nist.gov/director/nist-safety-commission/may-22-nist-safety-commission-meeting-agenda.

Individuals and representatives of organizations who would like to offer comments and suggestions related to the Commission's business are invited to request a place on the agenda. Approximately 15 minutes will be reserved for public comments and speaking times will be assigned on a first-come, first-serve basis. The amount of time per speaker will be determined by the number of requests received but is likely to be about three minutes each. Questions from the public will not be considered during this period. Requests must be submitted by email to Corrine Lloyd at corrine.lloyd@nist.gov and must be received by 4:00 p.m. Eastern Time, May 17, 2023 to be considered. Speakers who wish to expand upon their oral statements, those who had wished to speak but could not be accommodated on the agenda, and those who were unable to participate are invited to submit written statements by email to corrine.lloyd@nist.gov.

All NIST staff and public participants will be attending via webinar and must register at: https://events.nist.gov/profile/form/index.cfm?PKformID=0x20977abcd by 4:00 p.m. Eastern Time, May 17, 2023 for detailed instructions on how to join the webinar. Any questions regarding registration may be directed to Corrine Lloyd at corrine.lloyd@nist.gov.

Authority: 15 U.S.C. 1512 as amended, and the Federal Advisory Committee Act, as amended, 5 U.S.C. App.

Alicia Chambers,
NIST Executive Secretariat.

[FR Doc. 2023-07260 Filed 4-5-23; 8:45 am]

BILLING CODE 3510-13-P